DEPARTMENT OF HEALTH AND HUMAN SERVICES

National Institutes of Health

National Institute on Aging; Amended Notice of Meeting

Notice is hereby given of a change in the meeting of the National Advisory Council on Aging, May 26, 2020, 1:00 p.m. to May 26, 2020, 5:00 p.m., National Institute on Aging, Gateway Building, 7201 Wisconsin Avenue, Bethesda, MD 20892 which was published in the Federal Register on December 06, 2019, 84 FR 66922.

This notice is being amended to change the meeting date, time, location and contact person from May 26-27, 2020, 3:00 p.m. to 12:45 p.m., National Institutes of Health, Natcher Building, 45 Center Drive, Bethesda, MD 20892 to May 26, 2020, 1:00 p.m. to 5:00 p.m., a virtual meeting.

Contact Person: Kenneth Santora, Ph.D., Director, Office of Extramural Activities, National Institute on Aging, National Institutes of Health, Gateway Building, 7201 Wisconsin Avenue, Bethesda, MD 20814, (301) 496-9322, ksantora@nih.gov. Any member of the public may submit written comments no later than 15 days after the meeting.

Dated: April 21, 2020.
Miguelina Perez,
Program Analyst, Office of Federal Advisory Committee Policy.

[FR Doc. 2020-08778 Filed 4-23-20; 8:45 am]

BILLING CODE 4140-01-P